DEPARTMENT OF COMMERCE

Minority Business Development Agency

15 CFR Part 1400

[Docket No. 120517080-2132-02]

Petition for Inclusion of the Arab-American Community in the Groups Eligible for MBDA Services

AGENCY: Minority Business Development Agency, Commerce.

ACTION: Notice of proposed rulemaking and request for comments; amendment.

SUMMARY: On May 30, 2012, the Minority Business Development Agency (MBDA) published a notice of proposed rulemaking and request for comments regarding a petition received on January 11, 2012 from the American-Arab Anti-Discrimination Committee (ADC) requesting formal designation of Arab-Americans as a minority group that is socially or economically disadvantaged pursuant to 15 CFR part 1400. The Notice includes a thirty-day comment deadline of June 29, 2012, but also states that MBDA will make a decision on the petition no later than June 27, 2012.

Due to the complexity of the subject matter, the Department finds that it is not practicable to complete an in depth review of the issues involved in the petition, give adequate consideration to all comments, and make a reasoned determination on the petition by June 27, 2012. Therefore, the Department has determined that it is necessary to extend the time in which it will make its decision on the petition until July 30, 2012. This extension will not prejudice the petitioner. The deadline for the comments on the petition remains unchanged, and continues to be June 29, 2012.

FOR FURTHER INFORMATION CONTACT: For further information about this Notice, contact Josephine Arnold, Minority Business Development Agency, 1401 Constitution Avenue NW, Room 5053, Washington, DC 20230, (202) 482-2332, and jarnold@mbda.gov.

David Hinson,
National Director, Minority Business Development Agency.

[FR Doc. 2012-14225 Filed 6-11-12; 8:45 am]

BILLING CODE 3510-21-P